DEPARTMENT OF COMMERCE

National Oceanic and Atmospheric Administration

[I.D. 081502B]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Enforcement Committee and Advisory Panel and its Vessel Monitoring Systems (VMS) Committee in September, 2002 to consider actions affecting New England fisheries in the exclusive economic zone (EEZ). Recommendations from these groups will be brought to the full Council for formal consideration and action, if appropriate.

DATES: The meetings will be held on September 4 and 5, 2002. See SUPPLEMENTARY INFORMATION for specific dates and times.

ADDRESSES: The meetings will be held at the New England Fishery Management Council Office, 50 Water Street, Mill #2, Newburyport, MA 01950; telephone: (978) 465-0492.

FOR FURTHER INFORMATION CONTACT: Paul J. Howard, Executive Director, New England Fishery Management Council; (978) 465-0492.

SUPPLEMENTARY INFORMATION:

Meeting Dates and Agendas

Wednesday, September 4, 2002, at 9 a.m.—Joint Enforcement Committee and Advisory Panel Meeting.

The committee will review federal vessel permit issues associated with the Atlantic herring fishery and requiring fishermen to have a valid VMS number prior to issuance of the permit. This would be consistent with previous federal fisheries that require VMS. They will also discuss prohibiting fishermen with federal vessel permits from selling fish to unlicensed dealers. Current regulations prohibit dealers without permit from buying fish from federally permitted vessels.

Also included in the agenda will be review of the enforceability of the following: alternatives for Multispecies Amendment 13; draft enforcement analysis for scallops; general category landings restriction, particularly those in the state-waters only exemption for scallops; review of species ID guide for skates and its utility for enforcement as well as proposed prohibitions on possession, landing, sale and recommendations for tolerances on prohibitions and/or possession limits to account for mis-identification of skates. The committee will also discuss whether to increase advisory panel membership.

Thursday, September 5, 2002, at 9:30 a.m.—Vessel Monitoring System Committee Meeting.

Location: New England Fishery Management Council Office, 50 Water Street, Mill #2, Newburyport, MA 01950; telephone: (978) 465-0492.

The committee will discuss the concept of using automated vessel monitoring systems in New England fisheries. The agenda will include discussion of current VMS performance, alternative tracking devices now available, future expansion of VMS programs and VMS use for other management measures. The committee also may discuss other business.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: August 15, 2002.
Richard W. Surdi,
Acting Director, Office of Sustainable Fisheries, National Marine Fisheries Service.

[FR Doc. 02-21309 Filed 8-20-02; 8:45 am]

BILLING CODE 3510-22-S